ARCTIC RESEARCH COMMISSION

Notice of 105th Commission Meeting

Notice is hereby given that the U.S. Arctic Research Commission will hold its 105th meeting in Fairbanks, Alaska, on March 16, 2016. The business session, open to the public, will convene at 8:30 a.m.

The agenda items include:

(1) Call to order and approval of the agenda

(2) Approval of the minutes from the 104th meeting

(3) Commissioners and staff reports

The focus of the meeting will be a discussion of Arctic research activities and events.

If you plan to attend this meeting, please notify us via the contact information below. Any person planning to attend who requires special accessibility features and/or auxiliary aids, such as sign language interpreters, must inform the Commission of those needs in advance of the meeting.

Contact person for further information: John Farrell, Executive Director, U.S. Arctic Research Commission, 703-525-0111 or TDD 703-306-0090.

Kathy Farrow,
Communications Specialist.

[FR Doc. 2016-04559 Filed 3-11-16; 8:45 am]

BILLING CODE 7555-01-P